FEDERAL MARITIME COMMISSION

46 CFR Parts 502, 503, 520, 530, 535, 540, 550, 555 and 560

[Docket No. FMC-2023-0009]

RIN 3072-AC96

Update of Existing FMC User Fees

AGENCY: Federal Maritime Commission

ACTION: Correcting amendments.

SUMMARY: On March 21, 2023, the Federal Maritime Commission (FMC) published in the Federal Register a direct final rule and request for comment updating its user fees. The document inadvertently stated an incorrect amount for two fees. The document stated as the cost for certification/validation of documents as $93 instead of $107, and for Non-Attorney Admission to Practice as $195 instead of $229. This document corrects the error by aligning the fees as stated in the rule with those that were correctly identified in the 2023-3-07FY23 User Fee Control File provided in the docket as a supporting document.

DATES: This correction is effective on July 24, 2023.

FOR FURTHER INFORMATION CONTACT: William Cody, Secretary; Phone: (202) 523-5908; Email: secretary@fmc.gov.

SUPPLEMENTARY INFORMATION: In the March 21, 2023 direct final rule that the FMC published in the Federal Register, the rule inadvertently stated the incorrect amount for two fees for certain services. The fee for the certification/validation of documents found at both 46 CFR 503.50(c)(4) and 46 CFR 503.69(b)(2) was stated as $93 instead of $107. Similarly, the fee for Non-Attorney Admission to Practice at 46 CFR 503.50(d) was listed as $195 instead of $229. Included in the docket with the direct final rule as a supporting document was the 2023-3-07FY23 User Fee Control File. This spreadsheet shows the correct amounts for the fees and shows how those fees were calculated and is still available on the docket. The FMC is now correcting the error by aligning the fees in stated in the rule with those that were correctly identified in the 2023-3-07FY23 User Fee Control File provided in the docket as a supporting document.

List of Subjects in 46 CFR Part 503

Classified information, Freedom of Information, Privacy, Sunshine Act.

For the reasons set forth above, the Federal Maritime Commission is amending 46 CFR part 503 by making the following correcting amendments:

PART 503—PUBLIC INFORMATION

1. The authority citation for part 503 continues to read as follows:

Authority: 5 U.S.C. 3331, 552, 552a, 552b, 553; 31 U.S.C. 9701; 46 U.S.C. 46103; E.O. 13526 of January 5, 2010, 75 FR 707, 3 CFR, 2010 Comp., p. 298, sections 5.1(a) and (b).

2. Amend § 503.50 by revising paragraphs (c)(4) and (d) to read as follows:

§ 503.50 Fees for services.

* * * * *

(c) * * *

(4) The certification and validation (with Federal Maritime Commission seal) of documents filed with or issued by the Commission will be available at $107 for each certification.

(d) Applications for admission to practice before the Commission for persons not attorneys at law must be accompanied by a fee of $229 pursuant to § 502.27 of this chapter.

3. Amend § 503.69 by revising paragraph (b)(2) to read as follows:

§ 503.69 Fees.

* * * * *

(b) * * *

(2) The certification and validation (with Federal Maritime Commission seal) of documents filed with or issued by the Commission will be available at $107 for each certification.

* * * * *

By the Commission.
William Cody,
Secretary.

[FR Doc. 2023-13378 Filed 6-22-23; 8:45 am]

BILLING CODE 6730-02-P